FEDERAL MINE SAFETY AND HEALTH REVIEW COMMISSION

[BAC 6735-01]

Sunshine Act Notice

June 6, 2016.

FEDERAL REGISTER CITATION OF PREVIOUS ANNOUNCEMENT: Document 2016-12966, June 1, 2016.

PREVIOUSLY ANNOUNCED TIME AND DATE OF MEETING: 10:00 a.m., Wednesday, June 8, 2016.

PLACE: The Richard V. Backley Hearing Room, Room 511N, 1331 Pennsylvania Avenue NW., Washington, DC 20004 (enter from F Street entrance).

STATUS: Open.

CHANGES IN MEETING: The Commission has cancelled the meeting previously scheduled in Secretary of Labor v. American Coal Company, Docket No. LAKE 2011-13.

CONTACT PERSON FOR MORE INFO: Emogene Johnson (202) 434-9935/(202) 708-9300 for TDD Relay/1-800-877-8339 for toll free.

Sarah L. Stewart,
Deputy General Counsel.

[FR Doc. 2016-13711 Filed 6-7-16; 11:15 am]

BILLING CODE P